DEPARTMENT OF VETERANS AFFAIRS

Advisory Committee on Former Prisoners of War; Notice of Meeting

The Department of Veterans Affairs (VA) gives notice under the Federal Advisory Committee Act that the Advisory Committee on Former Prisoners of War (FPOW) will meet August 14-16, 2019, from 8:00 a.m.-5:15 p.m. EDT at the Department of Veterans Affairs Headquarters located at 810 Vermont Avenue NW, G.V. Sonny Montgomery Conference Room 230, Washington, DC 20420. The meeting sessions are as follows:

Date: | Time:
August 14, 2019 | 9:00 a.m. to 12:00 p.m. (EST).
August 15, 2019 | 9:00 a.m. to 5:15 p.m. (EST).
August 16, 2019 | 8:00 a.m. to 10:00 a.m. (EST).

The meeting sessions are open to the public.

The purpose of the Committee is to advise the Secretary of Veterans Affairs on the administration of benefits under Title 38 U.S.C., for Veterans who are FPOWs, and to make recommendations on the needs of such Veterans for compensation, health care, and rehabilitation.

The agenda will include discussions and briefings from Veterans Benefits Administration and Veterans Health Administration officials, as well as briefings on other issues impacting FPOW Veterans.

FPOWs who wish to speak at the public forum are invited to submit a 1-2-page commentary for inclusion in official meeting records. Any member of the public may also submit a 1-2-page commentary for the Committee's review. Any member of the public wishing to attend the meeting or seeking additional information should contact Mr. E. Maquel Marshall, Acting Designated Federal Officer, Advisory Committee on Former Prisoners of War at Edwaunte.Marshall@va.gov or via phone at (202) 530-9301. Because the meeting is being held in a government building, a photo I.D. must be presented at the Guard's Desk as a part of the screening process. Due to an increase in security protocols, you should allow an additional 30 minutes before the meeting begins.

Dated: July 29, 2019.
Jelessa M. Burney,
Federal Advisory Committee Management Officer.

[FR Doc. 2019-16450 Filed 7-31-19; 8:45 am]

BILLING CODE P